DEPARTMENT OF AGRICULTURE

Farm Service Agency

Request for Approval of a New Information Collection—County Committee Elections

AGENCY: Farm Service Agency.

ACTION: Notice and request for comments.

SUMMARY: In accordance with the Paperwork Reduction Act of 1995, this notice announces the intention of the Farm Service Agency (FSA) to request approval of an information collection used to support of FSA County Committee elections.

DATES: Comments on this notice must be received on or before June 10, 2003.

FOR FURTHER INFORMATION CONTACT: Kenneth Nagel, Agricultural Program Specialist, Office of Deputy Administrator for Field Operations, Farm Service Agency, USDA, STOP 0542, 1400 Independence Ave., SW., Washington, DC 20250; telephone (202) 720-7890.

SUPPLEMENTARY INFORMATION: Title: Nomination Form for FSA County Committee Election.

OMB Control Number: 0560-NEW.

Type of Request: Approval of a New Information Collection.

Abstract: This information collected under the Office of Management and Budget (OMB) Number 0560-NEW is needed to enable FSA to receive nominations from eligible voters for the County Committee. The County Committee, subject to the general direction and supervision of the State Committee, and other personnel, shall be generally responsible for carrying out in the county the price support program, conservation programs, disaster assistance programs, commodities programs, environmental programs, and any other programs or functions assigned by the Secretary, or a designee of the Secretary.

Estimate of Annual Burden: Public reporting burden for this information collection is estimated to average 10 minutes per response.

Respondents: Any individuals with farming interest in the Local Administrative Area (LAA). (eligible voter)

Estimated Number of Respondents: 2,100,000.

Estimated Number of Responses per Respondent: 1.

Estimated Total Annual Burden on Respondents: 350.

Topics for comment include but are not limited to the following: (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology. Comments should be sent to the Desk Officer for Agriculture, Office of Information and Regulatory Affairs, Office of Management and Budget, Washington, DC 20503, and to Kenneth Nagel, Agricultural Program Specialist, Office of Deputy Administrator for Field Operations, Farm Service Agency, USDA, STOP 0542, 1400 Independence Ave., SW., Washington, DC 20250; telephone (202) 720-7890. Copies of the information collection may be obtained from Kenneth Nagel at the above address.

All responses to this notice will be summarized and included in the request for Office of Management and Budget approval. All comments will be a matter of public record.

Signed at Washington, DC, April 4, 2003.
James R. Little,
Administrator, Farm Service Agency.

[FR Doc. 03-8866 Filed 4-10-03; 8:45 am]

BILLING CODE 3410-05-P